DEPARTMENT OF HEALTH AND HUMAN SERVICES

National Institutes of Health

National Survey of Complementary and Alternative Medicine Use by United States Cancer Patients Comment Period

AGENCY: National Cancer Institute (NCI), National Institutes of Health (NIH), Department of Health and Human Services (HHS).

ACTION: Request for public comment.

SUMMARY: In compliance with the provisions of section 3506(c)(2)(A) of the Paperwork Reduction Act of 1995, for opportunity for public comments on proposed data collection projects, the National Institutes of Health (NIH), National Cancer Institute (NCI) will publish periodic summaries of proposed projects to be submitted to the Office of Management and Budget (OMB) for review and approval.

DATES: The National Survey of Cancer CAM Researchers' Recommendations public comment period will run from May 1, 2007 to June 30, 2007.

ADDRESSES: Comments may be submitted electronically at http://www.cancer.gov/cam.

Background: Title: National Survey of Complementary and Alternative Medicine Use by United States Cancer Patients. Type of Information Collection Request: New. Need and Use of Information Collection: There have been many regional surveys conducted about the use of CAM by cancer patients, but only one national survey which was published in 1992 The NCI is seeking to determine whether it should make an investment in the gathering of current nationally representative data on cancer patients' use of CAM.

Request for Comments: Written comments and/or suggestions from the public and affected agencies are invited on one or more of the following points: (a) Whether nationally representative data should be obtained on CAM use by U.S. cancer patients; (b) the type of data about CAM use by U.S. cancer patients which should be considered high priority; (c) whether international data on CAM use by cancer patients should be collected; and (d) appropriate uses for any data on CAM use by cancer patients that is collected.

Dated: February 28, 2007.
Shea Buckman,
NCI OCCAM Communications and Outreach Manager, National Institutes of Health.

[FR Doc. E7-5832 Filed 3-28-07; 8:45 am]

BILLING CODE 4140-01-P